ENVIRONMENTAL PROTECTION AGENCY

[CERCLA-04-2017-3758; FRL-9966-03-Region 4]

Former Douglas Battery Site, Winston-Salem, Forsyth County, North Carolina; Notice of Settlement

Correction

In notice document 2017-17737, appearing on page 39785, in the issue of Tuesday, August 22, 2017, make the following correction:

On page 39785, in the second column, in the DATES section, on the third line, the entry “October 23, 2017” should read “September 21, 2017”.

[FR Doc. C1-2017-17737 Filed 8-29-17; 8:45 am]

BILLING CODE 1301-00-D